DEPARTMENT OF AGRICULTURE

Submission for OMB Review; Comment Request

November 7, 2006.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Public Attitudes, Beliefs, and Values about National Forest System Land.

OMB Control Number: 0596-NEW.

Summary of Collection: The National Environmental Policy Act of 1969, the National Forest Management Act of 1976, and the 2005 NFMA Planning Guide give legal authority for information collection in support of the forest plan revision process in the Southwestern Region. The purpose of this survey is to provide Southwestern Region natural forest land managers and planners with scientifically credible information from a broad and diverse representation of the public, as well as from specific stakeholder groups.

Need and Use of the Information: Information collected will focus on public attitudes, beliefs, and values that people have for public land and public land use, how those values are affected by public land management, and acceptable tradeoffs in developing alternative management plans. This information is critical to planning and implementing public policy related to national forests in the Southwestern Region. Data collected with these survey instruments will provide a baseline from which to monitor national forest use and management as affected by changes in social and economic conditions.

Description of Respondents: Individuals or households.

Number of Respondents: 20,202.

Frequency of Responses: Reporting: On occasion.

Total Burden Hours: 10,101.

Charlene Parker,
Departmental Information Collection Clearance Officer.

[FR Doc. E6-19131 Filed 11-13-06; 8:45 am]

BILLING CODE 3410-11-P